DEPARTMENT OF TRANSPORTATION

Federal Motor Carrier Safety Administration

49 CFR Part 393

[Docket No. FMCSA-2025-0107]

RIN 2126-AC81

Parts and Accessories Necessary for Safe Operation; Certification and Labeling Requirements for Rear Impact Protection Guards

AGENCY: Federal Motor Carrier Safety Administration (FMCSA), Department of Transportation (DOT).

ACTION: Notice of proposed rulemaking (NPRM).

SUMMARY: FMCSA proposes to amend the Federal Motor Carrier Safety Regulations (FMCSRs) to rescind the requirement that the rear impact guard be permanently marked or labeled with a certification from the impact guard manufacturer as required by the National Highway Traffic Safety Administration's (NHTSA) applicable Federal Motor Vehicle Safety Standard (FMVSS). The certification label or marking provides motor carriers purchasing new trailers or new impact guards to replace damaged devices with a means to determine whether the equipment is certified as meeting the FMVSS. However, the labeling or marking requirement has proven problematic for motor carriers when the label or marking becomes illegible or wears off during the service life of the trailer or guard. This proposal would eliminate an unintended regulatory burden on motor carriers without compromising safety, as this NPRM would not affect the applicable FMVSS. The proposal would also rescind a guidance document pertaining to illegible, incomplete, or missing rear impact guard certification labels.

DATES: Comments must be received on or before July 29, 2025.

ADDRESSES: You may submit comments identified by Docket Number FMCSA-2025-0107 using any of the following methods:

• Federal eRulemaking Portal: Go to https://www.regulations.gov/docket/FMCSA-2025-0107/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. David Sutula, Chief, Vehicle and Roadside Operations Division, FMCSA, 1200 New Jersey Avenue SE, Washington, DC 20590-0001; (202) 366-9209; David.Sutula@dot.gov. If you have questions on viewing or submitting material to the docket, call Dockets Operations at (202) 366-9826.

SUPPLEMENTARY INFORMATION:

I. Public Participation and Request for Comments

A. Submitting Comments

If you submit a comment, please include the docket number for this NPRM (FMCSA-2025-0107), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0107/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0107/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advance Notice of Proposed Rulemaking

CFR Code of Federal Regulations

CMV Commercial Motor Vehicle

CVSA Commercial Vehicle Safety Alliance

DOT Department of Transportation

FMCSRs Federal Motor Carrier Safety Regulations

FR Federal Register

NHTSA National Highway Traffic Safety Administration

NPRM Notice of Proposed Rulemaking

OMB Office of Management and Budget

PIA Privacy Impact Assessment

PTA Privacy Threshold Assessment

UMRA Unfunded Mandates Reform Act of 1995

U.S.C. United States Code

III. Legal Basis

This rulemaking is based on the authority of the Motor Carrier Act of 1935 (49 Stat. 543) (1935 Act) and the Motor Carrier Safety Act of 1984 (Title II of Pub. L. 98-554, 98 Stat. 2832) (1984 Act), as amended.

The 1935 Act, as amended, provides that “[t]he Secretary of Transportation may prescribe requirements for—(1) qualifications and maximum hours of service of employees of, and safety of operation and equipment of, a motor carrier; and (2) qualifications and maximum hours of service of employees of, and standards of equipment of, a private motor carrier, when needed to promote safety of operation” (49 U.S.C. 31502(b)).

This NPRM would amend the current requirements for rear impact guards in the FMCSRs by rescinding the requirement that the impact guard be permanently marked or labeled with a certification from the impact guard manufacturer as required by the applicable FMVSS. The Agency would amend a rule for which the adoption and enforcement of is authorized by the 1935 Act.

The 1984 Act provides concurrent authority to regulate drivers, motor carriers, and vehicle equipment. It requires the Secretary to “prescribe regulations on commercial motor vehicle safety.” The regulations shall prescribe minimum safety standards for CMVs. At a minimum, pursuant to 49 U.S.C. 31136(a), the regulations shall ensure that: (1) CMVs are maintained, equipped, loaded, and operated safely; (2) the responsibilities imposed on operators of CMVs do not impair their ability to operate the vehicles safely; (3) the physical condition of operators of CMVs is adequate to enable them to operate vehicles safely; (4) the operation of CMVs does not have a deleterious effect on the physical condition of the operators; and (5) drivers are not coerced by motor carriers, shippers, receivers, or transportation intermediaries to operate a vehicle in violation of a regulation promulgated under 49 U.S.C. 31136 (which is the basis for much of the FMCSRs) or 49 U.S.C. chapters 51 or 313 (49 U.S.C. 31136(a)).

This proposed rule concerns parts and accessories necessary for the safe operation of CMVs. It is based on section 31136(a)(1) because it deals with maintenance of rear impact guards. The NPRM does not implicate the driver-centered requirements of sections 31136(a)(2)-(4). As the amendment proposed by this rulemaking pertains only to the certification label or marking, FMCSA believes there will be stakeholder support for this initiative and that it is unlikely CMV drivers would be exposed to greater risk of being coerced to operate trailers with missing or non-compliant rear impact guards, which would run afoul of 31136(a)(5).

Before prescribing any such regulations, FMCSA must consider the “costs and benefits” of any proposal (49 U.S.C. 31136(c)(2)(A) and 31502(d)). As discussed in greater detail in the “Regulatory Analyses” section, FMCSA has determined that this proposed rule is not a significant regulatory action.

IV. Background

History of Rear Impact Guards and Labeling Requirement

Section 393.86 of the FMCSRs, “Rear impact guards and rear end protection,” requires rear impact guards to be installed on most CMVs to reduce the incidence of passenger compartment intrusion during underride crashes in which a passenger vehicle strikes the rear of the CMV. Regulations requiring rear impact guards have been in the FMCSRs since 1952. The FMCSRs require that all CMVs be systematically inspected, repaired, and maintained to ensure that all required parts and accessories—including rear impact guards—are in safe and proper operating condition at all times (§ 396.3(a)(1)). Operation of a CMV with a missing or noncompliant rear impact guard would be a violation of the FMCSRs, precluding the issuance of a Commercial Vehicle Safety Alliance (CVSA) inspection decal if the vehicle were to be inspected. In addition, a vehicle with a missing or noncompliant rear impact guard would fail the periodic or annual inspection required by 49 CFR 396.17.

NHTSA's rear impact guard standard applicable to the manufacturers of the devices include labeling requirements. Under FMVSS No. 223, “Rear impact guards,” manufacturers are allowed to affix the rear impact guard certification label on either the forward- or rearward-facing surface of the horizontal member of the guard, provided the label does not interfere with the retroreflective sheeting required by the FMVSS.

On September 1, 1999, FHWA published a final rule (64 FR 47703) amending the FMCSRs to require trailers and semitrailers manufactured on or after January 26, 1998, with a GVWR of 10,000 pounds or more, be equipped with rear impact guards that meet the requirements of FMVSS No. 223. The rear impact guards must be installed to ensure that the trailer or semitrailer meets the rear end protection requirements of FMVSS No. 224. The rule was intended to ensure that the rear impact protection requirements of the FMCSRs are consistent with the FMVSSs.

The 1999 final rule included a provision concerning the labeling or marking of the rear impact guard (64 FR 47708). The labeling requirements were subsequently updated after NHTSA published a final rule on November 19, 2004, relating to rear impact guards. NHTSA amended the labeling requirement in FMVSS No. 223 to permit the rear impact guard certification label to be mounted on either the forward- or rearward-facing surface of the horizontal member of the guard (69 FR 67660).

V. Discussion of Proposed Rulemaking

Rear Impact Guard Labeling or Marking

The certification label or marking provides motor carriers purchasing new trailers or new impact guards to replace damaged devices with a means to determine whether the equipment is certified as meeting the applicable FMVSS. However, the labeling or marking requirement has proven problematic for motor carriers when the label or marking becomes illegible or wears off during the service life of the trailer or guard. As discussed above in the Background section, operation of a CMV with a missing or noncompliant rear impact guard would be a violation of the FMCSRs, precluding the issuance of a CVSA inspection decal if the vehicle were to be inspected, and a vehicle with a missing or noncompliant rear impact guard would fail the periodic or annual inspection required by § 396.17.

On December 10, 2024, FMCSA issued a guidance document ¹ noting NHTSA had determined that labels that wear, fade, or are removed during repair do not indicate a current compliance issue with the requirements in FMVSS No. 223 (88 FR 5844-5845, Jan. 30, 2023). This proposal would eliminate an unintended regulatory burden on motor carriers without compromising safety, as the NPRM would not affect the applicable FMVSS; rather, it would rescind the FMCSR provision in § 393.86(a)(6) requiring that the impact guard be permanently marked or labeled with the certification required by the FMVSS.

¹ FMCSA-VEH-393.86-FAQ001 (2024-12-10), available at https://www.fmcsa.dot.gov/regulations/enforcement/does-illegible-incomplete-or-missing-rear-impact-guard-certification-label.

VI. International Impacts

Motor carriers and drivers are subject to the laws and regulations of the countries in which they operate, unless an international agreement states otherwise. Drivers and carriers should be aware of the regulatory differences between nations.

VII. Section-by-Section Analysis

A. Regulatory Provisions

Section 393.86

FMCSA proposes to amend 49 CFR 393.86 to rescind the labeling or marking requirement. While brand new trailers would continue to display manufacturer certification labels, and a significant percentage of trailers in operation would have certification labels, motor carriers operating trailers in environments that make it difficult, if not impossible, to preserve the certification label would no longer be at risk of being penalized during inspections for missing or illegible certification labels affixed by the manufacturer.

B. Guidance Statements and Interpretations

This rulemaking proposes to amend a regulation that has an associated guidance statements or interpretations. Such guidance statements do not have the force and effect of law, are strictly advisory, and are not meant to bind the public in any way. Conformity with guidance statements is voluntary. Guidance is intended only to provide information to the public regarding existing requirements under the law or FMCSA policies. A guidance statement does not alter the substance of a regulation.

On December 10, 2024, FMCSA issued a guidance FAQ to address the issue of illegible, incomplete, or missing rear impact guard certification labels under 49 CFR 393.86(a)(6).² FMCSA intends to rescind this guidance as no longer necessary upon publication of a final rule eliminating the provision to which the guidance relates.

² See FMCSA-VEH-393.86-FAQ001(2024-12-10), available on FMCSA's Guidance Portal at https://www.fmcsa.dot.gov/regulations/enforcement/does-illegible-incomplete-or-missing-rear-impact-guard-certification-label.

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

Section 393.86(a) currently requires most trailers and semitrailers manufactured on or after January 26, 1998, to be equipped with rear impact guards that meet NHTSA's requirements. This proposed rule would eliminate only the FMCSR requirement that the impact guard have a certification label or marking in perpetuity, while retaining NHTSA's requirement applicable at the time of manufacture and sale.

This rulemaking would eliminate the problem of motor carriers receiving citations for missing or illegible certification labels during inspections by Federal and State personnel. Because the Agency does not have data on the frequency with which such citations are accompanied by a State-issued fine, it is not possible to estimate the cost savings for motor carriers.

The Agency does not expect this proposed rule to result in benefits beyond the baseline established in the FMCSRs. As required by § 396.17, motor carriers currently complete annual inspections of all items identified in Appendix G. FMCSA assumes that motor carriers review rear impact guards in their annual inspection programs to remain in compliance with the current requirements in § 396.3(a)(1), which states that rear impact guards must be installed and in safe and proper operating conditions at all times. Additionally, CMVs are subject to inspections conducted in accordance with the CVSA's North American Standard Inspection Program that may occur throughout the year, which include the examination of rear impact guards.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ³

³ Executive Office of the President. Executive Order 14192 of January 31, 2025. Unleashing Prosperity Through Deregulation. 90 FR 9065-9067. Feb. 6, 2025.

Implementation guidance for E.O. 14192 issued by the Office of Management and Budget (OMB) (Memorandum M-25-20, March 26, 2025) defines two different types of E.O. 14192 actions: an E.O. 14192 deregulatory action, and an E.O. 14192 regulatory action.⁴

⁴ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero, and therefore would be considered an E.O. 14192 deregulatory action upon issuance of a final rule. This rulemaking would result in cost savings for motor carriers that would no longer be issued citations for missing or illegible certification labels during Federal and State inspections. The cost savings of this rulemaking could not be quantified.

C. Advance Notice of Proposed Rulemaking

Under 49 U.S.C. 31136(g), FMCSA is required to publish an advance notice of proposed rulemaking (ANPRM) or proceed with a negotiated rulemaking, if a proposed safety rule “under this part” ⁵ is likely to lead to the promulgation of a major rule.⁶ As this proposed rule is not likely to result in the promulgation of a major rule, the Agency is not required to issue an ANPRM or to proceed with a negotiated rulemaking.

⁵ Part B of Subtitle VI of Title 49, United States Code, i.e., 49 U.S.C. chapters 311-317.

⁶ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁷ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses. The Small Business Administration develops the size standards used to classify entities as small, and establishes separate standards for each industry, as defined by the North American Industry Classification System. The motor carriers that would be affected by this proposed rule fall into many different industry codes with differing size standards. Because this proposed rule would impact all motor carriers, including those considered to be small entities, FMCSA anticipates that this proposed rule would impact a substantial number of small entities.

⁷ Public Law 104-121, 110 Stat. 857, (Mar. 29, 1996).

However, FMCSA has determined that this rule would not have a significant impact on the affected entities. This proposed rule would rescind the requirement that the manufacturer certification label be displayed on the rear impact guard. The manufacturer certification label provides a motor carrier purchasing new trailers or new impact guards to replace damaged devices with a means to determine whether the equipment is certified as meeting the NHTSA requirements. However, the labeling requirement has proven problematic for motor carriers when the label becomes illegible or wears off during the service life of the trailer. Today's proposal would eliminate an unintended regulatory burden on motor carriers without compromising safety. The Agency expects the impacts of this proposed rule would be de minimis, and therefore, does not expect the proposed rule to have a significant economic impact on a substantial number of small entities.

Consequently, I certify that the proposed action will not have a significant economic impact on a substantial number of small entities. FMCSA invites comment from members of the public who believe there will be a significant impact either on small businesses or on governmental jurisdictions with a population of less than 50,000.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. This proposed rule does not contain Federal mandates (under the regulatory provisions of Title II of UMRA) for State, local, and Tribal governments, or the private sector of the adjusted inflationary amount or more in any 1 year. Thus, the rulemaking is not subject to the requirements of sections 202 and 205 of UMRA. Though this proposed rule would not result in such an expenditure, the Agency does discuss the effects of this proposed rule elsewhere in this preamble.

G. Paperwork Reduction Act

This proposed rule contains no new information collection requirements under the Paperwork Reduction Act of 1995 (44 U.S.C. 3501-3520).

H. E.O. 13132 (Federalism)

A rulemaking has implications for federalism under section 1(a) of E.O. 13132 if it has “substantial direct effects on the States, on the relationship between the national government and the States, or on the distribution of power and responsibilities among the various levels of government.”

FMCSA has determined that this proposed rule would not have substantial direct costs on or for States, nor would it limit the policymaking discretion of States. Nothing in this document preempts any State law or regulation. Therefore, this proposed rule does not have sufficient federalism implications to warrant the preparation of a Federalism Impact Statement.

I. Privacy

The Consolidated Appropriations Act, 2005,⁸ requires the Agency to assess the privacy impact of a regulation that will affect the privacy of individuals. This NPRM would not require the collection of personally identifiable information (PII).

⁸ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁹ requires Federal agencies to conduct a PIA for new or substantially changed technology that collects, maintains, or disseminates information in an identifiable form. No new or substantially changed technology would collect, maintain, or disseminate information as a result of this proposed rule. Accordingly, FMCSA has not conducted a PIA.

⁹ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This proposed rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (NEPA) (42 U.S.C. 4321 et seq.). The Agency believes this proposed rule, if finalized, would not have a reasonably foreseeable significant effect on the quality of the human environment. This action would likely fall under a published categorical exclusion and thus be excluded from further analysis and documentation in an environmental assessment or environmental impact statement under FMCSA Order 5610.1 (69 FR 9680), Appendix 2. Specifically, paragraph (6)(bb), which covers regulations pertaining to vehicle operation safety standards, equipment approval, and/or equipment carriage requirements. The public is invited to comment on the impact of the proposed Agency action.

L. Rulemaking Summary

In accordance with 5 U.S.C. 553(b)(4), a summary of this proposed rule may be found at regulations.gov, under the docket number.

List of Subjects in 49 CFR Part 393

Highway safety, Motor carriers, Motor vehicle safety, Reporting and recordkeeping requirements.

Accordingly, FMCSA proposes to amend 49 CFR part 393 to read as follows:

PART 393—PARTS AND ACCESSORIES NECESSARY FOR SAFE OPERATION

1. The authority citation for part 393 continues to read as follows:

Authority: 49 U.S.C. 31136, 31151, and 31502; sec. 1041(b) of Pub. L. 102-240, 105 Stat. 1914, 1993 (1991); sec. 5301 and 5524 of Pub. L. 114-94, 129 Stat. 1312, 1543, 1560; and 49 CFR 1.87.

§ 393.86 [Amended]

2. In § 393.86 remove and reserve paragraph (a)(6).

Issued under authority delegated in 49 CFR 1.87.
Sue Lawless,
Assistant Administrator.

[FR Doc. 2025-09704 Filed 5-27-25; 4:15 pm]

BILLING CODE 4910-EX-P